ENVIRONMENTAL PROTECTION AGENCY

[FRL-6534-6]

Proposed CERCLA Administrative Cost Recovery Settlement; Surrette America Battery Removal Site, Northfield, NH

AGENCY: Environmental Protection Agency.

ACTION: Notice, request for public comment.

SUMMARY: In accordance with 122(i) of the Comprehensive Environmental Response, Compensation, and Liability Act, as amended (“CERCLA”), 42 U.S.C. 9622(i), notice is hereby given of a proposed administrative settlement for recovery of past response costs concerning the Surrette America Battery Removal Site, Northfield, New Hampshire with the following settling parties: Clark H. Neill, Surrette Storage Battery Co., Inc., and C&J Neill, Inc. The settlement requires the settling parties to pay $10,000 to the Hazardous Substance Superfund. The settlement includes a covenant not to sue the settling parties pursuant to sections 106 and 107(a) of CERCLA, 42 U.S.C. 9606 and 9607(a). For thirty (30) days following the date of publication of this notice, the United States Environmental Protection Agency will receive written comments relating to the settlement. The United States Environmental Protection Agency will receive written comments relating to the settlement. The United States Environmental Protection Agency will consider all comments received and may modify or withdraw its consent to the settlement if comments received disclose facts or considerations which indicate that the settlement is inappropriate, improper, or inadequate. The United States Environmental Protection Agency's response to any comments received will be available for public inspection at Hall's Memorial Library, 18 Park Street, Northfield, New Hampshire, and United States Environmental Protection Agency, EPA-New England, One Congress Street, Suite 1100, Boston, MA 02114.

DATES: Comments must be submitted on or before March 13, 2000.

ADDRESSES: The proposed settlement is available for public inspection at United States Environmental Protection Agency, EPA-New England, One Congress, Suite 1100, Boston, MA 02114. A copy of the proposed settlement may be obtained from Barbara O'Toole, Responsible Party Coordinator, United States EPA, Region 1, One Congress Street, Suite 1100 (HBS), Boston, MA 02114, (617) 918-1408. Comments should reference the Surrette America Battery Removal Site, Northfield, New Hampshire and EPA Docket No. CERCLA 1-99-0045 and should be addressed to Barbara O'Toole, Responsible Party Coordinator, United States EPA, EPA-New England, One Congress Street, Suite 1100 (HBS), Boston, MA 02114.

FOR FURTHER INFORMATION CONTACT: Barbara O'Toole, Responsible Party Coordinator, United States EPA, Region 1, One Congress Street, Suite 1100 (HBS), Boston, MA 02114, (617) 918-1408.

Dated: January 27, 2000.
Patricia L. Meaney,
Director, Office of Site Remediation and Restoration.

[FR Doc. 00-3210 Filed 2-10-00; 8:45 am]

BILLING CODE 6560-50-M